DEPARTMENT OF ENERGY

Federal Energy Regulatory Commission

[Docket No. CP17-178-000]

Alaska Gasline Development Corporation; Notice of Availability of the Draft Environmental Impact Statement for the Proposed Alaska LNG Project

The staff of the Federal Energy Regulatory Commission (FERC or Commission) with the participation of the cooperating agencies listed below, has prepared a draft environmental impact statement (EIS) for the Alaska LNG Project (Project) proposed by the Alaska Gasline Development Corporation (AGDC). AGDC requests authorization to construct and operate new gas treatment facilities, an 806.6-mile-long natural gas pipeline and associated aboveground facilities, and a 20-million-metric-ton per annum liquefaction facility to commercialize the natural gas resources of Alaska's North Slope. The Project would have an annual average inlet design capacity of up to 3.7 billion standard cubic feet per day and a 3.9 billion standard cubic feet per day peak capacity.

The draft EIS assesses the potential environmental effects of Project construction and operation in accordance with the requirements of the National Environmental Policy Act (NEPA). As described in the EIS, the FERC staff concludes that approval of the Project would result in a number of significant environmental impacts, but the majority of impacts would be less than significant based on the impact avoidance, minimization, and mitigation measures proposed by AGDC and those recommended by staff in the draft EIS. However, some of the adverse impacts would be significant even after the implementation of mitigation measures.

The United States (U.S.) Department of Transportation Pipeline and Hazardous Materials Safety Administration, U.S. Environmental Protection Agency, U.S. Army Corps of Engineers, U.S. Coast Guard, Bureau of Land Management (BLM), U.S. Fish and Wildlife Service, National Park Service, U.S. Department of Energy, and National Marine Fisheries Service participated as cooperating agencies in the preparation of this EIS. Cooperating agencies have jurisdiction by law or special expertise with respect to resources potentially affected by the proposal and participate in the NEPA analysis. Although the cooperating agencies provided input to the conclusions and recommendations presented in the draft EIS, the agencies will present their own conclusions and recommendations in their respective Records of Decision for the Project.

The BLM will adopt and use the EIS to consider issuing a right-of-way grant for the portion of the Project on BLM-managed lands. Other cooperating agencies will use this EIS in their regulatory processes and to satisfy compliance with NEPA and other related federal environmental laws (e.g., the National Historic Preservation Act).

Section 810(a) of the Alaska National Interest Lands Conservation Act, 16 United States Code 3120(a), also requires the BLM to evaluate the effects of the alternatives presented in the draft EIS on subsistence activities, and to hold public hearings if it finds that any alternative may significantly restrict subsistence uses. The preliminary evaluation of subsistence impacts indicates that the cumulative case analyzed in the draft EIS may significantly restrict subsistence uses for the communities of Nuiqsut, Kaktovik, Utqiagvik, and Anaktuvuk Pass. Therefore, the BLM will hold public hearings and solicit public testimony in these potentially affected communities.

Distribution and Comments on the Draft Environmental Impact Statement

The Commission mailed a copy of the draft EIS to federal, state, and local government representatives and agencies; elected officials; Alaska Native tribal governments and Alaska Native Claims Settlement Act Corporations; and local libraries and newspapers in the area of the Alaska LNG Project. The draft EIS was also mailed to property owners that could be affected by Project facilities, individuals requesting intervenor status in the FERC's proceedings, and other interested parties (i.e., individuals and environmental and public interest groups who provided scoping comments or asked to remain on the mailing list). Paper copy versions of this EIS were mailed to subsistence communities, libraries, and those specifically requesting them; all others received a CD version.

The draft EIS is also available in electronic format. It may be viewed and downloaded from the FERC's website (www.ferc.gov) on the Environmental Documents page (http://www.ferc.gov/industries/gas/enviro/eis.asp). In addition, the draft EIS may be accessed by using the eLibrary link on the FERC's website. Click on the eLibrary link (https://www.ferc.gov/docs-filing/elibrary.asp), then click on General Search and enter the docket number in the “Docket Number” field, excluding the last three digits (i.e., CP17-178). Be sure you have selected an appropriate date range. For assistance, please contact FERC Online Support at FercOnlineSupport@ferc.gov or toll free at (866) 208-3676, or for TTY, contact (202) 502-8659.

Any person wishing to comment on the draft EIS may do so. Your comments should focus on the draft EIS's disclosure and discussion of potential environmental effects, reasonable alternatives, and measures to avoid or lessen environmental impacts. To ensure consideration of your comments on the proposal in the final EIS, it is important that the Commission receive your comments on or before 5:00 p.m. Eastern Time on October 3, 2019.

For your convenience, there are four methods you can use to submit your comments to the Commission. In all instances, please reference the Project docket number (CP17-178-000) with your submission. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on the Project.

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address. Be sure to reference the Project docket number (CP17-178-000) with your submission: Kimberly D. Bose, Secretary, Federal Energy Regulatory Commission, 888 First Street NE, Room 1A, Washington, DC 20426.

(4) In lieu of sending written or electronic comments, the Commission invites you to attend one of the public comment meetings held in the Project area to receive comments on the draft EIS. The dates, locations, and times of these meetings, along with the BLM public hearings, will be provided in a supplemental notice.

Any person seeking to become a party to the proceeding must file a motion to intervene pursuant to Rule 214 of the Commission's Rules of Practice and Procedure (18 Code of Federal Regulations Part 385.214). Motions to intervene are more fully described at http://www.ferc.gov/resources/guides/how-to/intervene.asp. Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered. Subsequent decisions, determination, permits, and authorization by the cooperating agencies are subject to the administrative procedures of each respective agency.

Questions?

Additional information about the Project is available from the Commission's Office of External Affairs, at (866) 208-FERC, or on the FERC website (www.ferc.gov) using the eLibrary link. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: June 28, 2019.
Kimberly D. Bose,
Secretary.

[FR Doc. 2019-14432 Filed 7-5-19; 8:45 am]

BILLING CODE 6717-01-P